NATIONAL AERONAUTICS AND SPACE ADMINISTRATION

[Notice (10-144)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to the Performance Review Board (PRB) be published in the Federal Register.

The National Aeronautics and Space Administration published a document in the Federal Register on October 12, 2010, announcing membership of the Performance Review Board (PRB) and the Senior Executive Committee. In addition to the members previously announced, another member was added to the PRB, Associate Administrator for Independent Program and Cost Evaluation.

Performance Review Board

Chairperson, Chief of Staff, NASA Headquarters

Executive Secretary, Director, Workforce Management and Development Division, NASA Headquarters

Associate Administrator, NASA Headquarters

Associate Deputy Administrator, NASA Headquarters

Associate Administrator for Exploration Systems Mission Directorate, NASA Headquarters

Associate Administrator for Space Operations Mission Directorate, NASA Headquarters

Associate Administrator for Science Mission Directorate, NASA Headquarters

Associate Administrator for Aeronautics Research Mission Directorate, NASA Headquarters

Associate Administrator for Mission Support Directorate, NASA Headquarters

Associate Administrator for Diversity and Equal Opportunity, NASA Headquarters

Assistant Administrator for Human Capital Management, NASA Headquarters

Associate Administrator for Independent Program and Cost Evaluation, NASA Headquarters

Chief Engineer, NASA Headquarters

General Counsel, NASA Headquarters

Chief Technologist, NASA Headquarters

Chief Scientist, NASA Headquarters

Chief Information Officer, NASA Headquarters

Chief, Safety and Mission Assurance, NASA Headquarters

Director, Ames Research Center

Director, Dryden Flight Research Center

Director, Glenn Research Center

Director, Goddard Space Flight Center

Director, Johnson Space Center

Director, Kennedy Space Center

Director, Langley Research Center

Director, Marshall Space Flight Center

Director, Stennis Space Center

Senior Executive Committee

Chairperson, Deputy Administrator, NASA Headquarters

Chair, Executive Resources Board, NASA Headquarters

Chair, NASA Performance Review Board, NASA Headquarters

Associate Administrator, NASA Headquarters

Associate Deputy Administrator, NASA Headquarters

Chief Information Officer, NASA Headquarters

Charles F. Bolden, Jr.,
Administrator.

[FR Doc. 2010-27551 Filed 11-1-10; 8:45 am]

BILLING CODE P